DEPARTMENT OF THE INTERIOR

Fish and Wildlife Service

Notice of Intent To Conduct Restoration Planning for Natural Resources Injured by the Release of Oil From the MV Kure Oil Spill, Humboldt County, CA

AGENCY: Fish and Wildlife Service, Interior.

ACTION: Notice of intent.

SUMMARY: The U.S. Fish and Wildlife Service (Department of the Interior), the California Department of Fish and Game, and the California State Lands Commission are joint trustees (Trustees) for natural resources and are authorized to assess injuries to Federal and State resources caused by the MV Kure Oil Spill and to plan and implement restoration actions to address those injuries. The Trustees announce their intent to conduct restoration planning for the MV Kure Oil Spill. The purpose of this restoration planning effort is to complete an assessment of the natural resource injuries and damages caused by the oil spill, and to prepare a plan for the restoration of the injured resources.

DATES: To ensure consideration, we must receive written comments on or before April 18, 2005.

ADDRESSES:

Review of Administrative Record

The Administrative Record will be available for public inspection, by appointment, during normal business hours at these locations:

• U.S. Fish and Wildlife Service, Sacramento Fish and Wildlife Office, 2800 Cottage Way, Suite W-2605, Sacramento, California 95825.

• California Department of Fish and Game, 619 2nd Street, Eureka, California 95501.

You may schedule a time to review the Administrative Record by contacting the Sacramento Fish and Wildlife Office or the California Department of Fish and Game's Eureka office (see FOR FURTHER INFORMATION CONTACT).

Submission of Comments

You may submit your written comments on this Notice, Administrative Record materials, and all upcoming restoration planning documents by any of the following methods:

1. Send written comments and information by mail to Charlene Andrade, Sacramento Fish and Wildlife Office, at the above address.

2. Hand-deliver written comments to the Sacramento Fish and Wildlife Office, at the above address.

3. Fax comments to (916) 414-6713 (Attn.: Charlene Andrade).

4. Send comments by electronic mail (e-mail) to Charlene_Andrade@fws.gov. For directions on how to submit electronic comments, see the “Public Comments Solicited” section.

FOR FURTHER INFORMATION CONTACT: Charlene Andrade, Sacramento Fish and Wildlife Office, telephone (916) 414-6590; Kris Weise, California Department of Fish and Game, Eureka, (707) 441-5752. To receive public notices about future Restoration Planning activities, contact Charlene Andrade by telephone.

SUPPLEMENTARY INFORMATION:

Background

On the morning of November 5, 1997, the vessel M/V Kure spilled oil into Humboldt Bay after colliding with a dock at the Louisiana Pacific wood chip facility during loading operations. Oil was spread by tide, currents and winds through much of the bay and into the Pacific Ocean. The oil affected a number of natural resources, including seabirds, shorebirds, marine and estuarine waters, marshes, mudflats, beaches and other shoreline habitats. This oil spill is hereafter referred to as the “Incident.”

Pursuant to section 1006 of the Oil Pollution Act (OPA), 33 U.S.C. 2701 et seq., Federal and State trustees (Trustees) for natural resources are authorized to assess natural resource damages resulting from oil spills into navigable waters and to develop and implement a plan for restoration of such injured resources. The Trustees for this Incident are the U.S. Fish and Wildlife Service (Department of the Interior), the California Department of Fish and Game, and the California State Lands Commission. The Natural Resource Damage Assessment Regulations under OPA, 15 CFR part 990 (the “NRDA regulations”), provide that the Trustees are to prepare a Notice of Intent to Conduct Restoration Planning (Notice) if they determine certain conditions have been met and if they decide to quantify the injuries to natural resources and to develop a restoration plan.

This Notice is to announce, pursuant to Section 990.44 of the NRDA regulations, that the Trustees, having collected and analyzed data, intend to proceed with restoration planning actions to address injuries to natural resources resulting from the Incident. The purpose of this restoration planning effort is to further evaluate injuries to natural resources and services and to use that information to determine the need for, type of, and scale of restoration actions.

Determination of Jurisdiction

The Trustees have made the following determinations pursuant to 15 CFR 990.41 and 990.42:

(1) On November 5, 1997, the vessel MV Kure spilled a quantity of intermediate fuel oil, estimated to be approximately 4,500 gallons, in Humboldt Bay, near Eureka, California. This occurrence constituted an “Incident” within the meaning of 15 CFR 990.30. The Incident is also a “spill” or “discharge” as defined at California Government Code 8670.3(aa).

(2) The Incident was not permitted under a permit issued under Federal, State, or local law; was not from a public vessel; and was not from an onshore facility subject to the Trans-Alaska Pipeline Authority Act, 43 U.S.C. 1651 et seq.

(3) Oil discharged during the Incident affected marine and shoreline habitats, wildlife, and human uses of natural resources in the area. Consequently, natural resources under the trusteeship of the Trustees have been injured as a result of the Incident.

(4) As a result of the foregoing determinations, the Trustees have jurisdiction to pursue restoration under the Federal Oil Pollution Act (OPA), 33 U.S.C. 2701-2761, and California's Lempert-Keene-Seastrand Oil Spill Prevention and Response Act, Government Code Sections 8670.1 et seq.

Determination To Conduct Restoration Planning

The Trustees have determined, pursuant to 15 CFR 990.42(a), that:

(1) Data collected pursuant to 15 CFR 990.43 demonstrate that injuries to natural resources have resulted from the Incident, including but not limited to the following:

(i) Injury to a wide variety and number of seabirds, shorebirds, and waterfowl, among them marbled murrelets and California brown pelicans (species listed as threatened or endangered under the Endangered Species Act, 16 U.S.C. 1531-1544);

(ii) Impacts to marshes, mudflats, beaches, and other shoreline habitats such that the ecological services provided by these habitats were reduced for varying periods of time;

(iii) Impacts to water quality in marine and estuarine waters affected by the spill such that the ecological services provided by these habitats were reduced for some period of time; and

(iv) Lost public recreational uses, including lost or diminished opportunities for sea kayaking, surfing and camping.

(2) The cleanup actions taken to respond to the Incident have not adequately addressed the injuries resulting from the Incident to the extent where restoration would not be necessary. Response efforts included collection and removal of oil and oiled debris along shorelines and rehabilitation of oiled birds. These efforts reduced the magnitude and duration of impacts to shoreline habitats and wildlife, but did not eliminate all injuries or make restoration unnecessary.

(3) Potential assessment procedures to be used to evaluate injuries and to design and implement the appropriate type and scale of restoration for these injured natural resources and services consist of, but are not limited to:

(i) Compilation of data on numbers, species, and collection locations of dead or debilitated birds found during the spill response;

(ii) Compilation of demographic data for key bird species;

(iii) Field studies and/or literature searches to estimate rates of removal of carcasses from beaches by scavengers and effectiveness of wildlife operations personnel and techniques at finding oiled birds stranded on beaches;

(iv) Analysis of field studies and/or literature searches (iii above), collection information (i above), bird distribution and abundance data, and/or oil trajectory data to evaluate spill-related avian mortality;

(v) Resource Equivalency Analysis or other techniques to scale bird restoration projects to bird injuries;

(vi) Habitat Equivalency Analysis or other techniques to scale habitat restoration projects to habitat injuries;

(vii) Field studies to ascertain restoration suitability of various tracts of land; and

(viii) Analysis of habitat quality information to properly scale restoration projects.

(4) Feasible primary and compensatory restoration actions exist to address injuries from the Incident. Restoration activities are expected to focus on marbled murrelets and other seabirds, shorebirds, waterfowl, aquatic and shoreline habitats, and lost recreation. Restoration actions for the injured resources may include, but are not necessarily limited to:

(i) Acquisition of marbled murrelet nesting habitat from willing sellers, purchase of conservation easements on marbled murrelet nesting habitat, and enhancement of the quality of marbled murrelet nesting habitat through management actions;

(ii) Enhancement and/or protection of nesting and roosting locations of seabirds along the California coast;

(iii) Enhancement and/or protection of marshes, mudflats and other habitats that were affected by the Incident or are used by bird species that were affected by the Incident; and

(iv) Enhancement of trails or other facilities used for public recreation at beaches or parks where public access was lost or diminished during the Incident.

Administrative Record

The Trustees have opened an Administrative Record (Record) in compliance with 15 CFR 990.45. The Record includes documents relied upon by the Trustees during the assessment and restoration planning performed thus far in connection with the Incident, including data supporting the above determinations. The Record is on file and available to the public at the locations specified in the ADDRESSES section.

Public Comments Solicited

Pursuant to 15 CFR 990.14(d), the Trustees seek public involvement in restoration planning for this Incident, through public review of, and comment on, this Notice and the documents contained in the Administrative Record.

Please submit electronic comments in an ASCII file format and avoid the use of special characters and encryption. Please also include “Attn: Kure NOI” and your name and return address in your e-mail message. If you do not receive a confirmation from the system that we have received your e-mail message, please contact us directly by calling Charlene Andrade at the Sacramento Fish and Wildlife Office (see ADDRESSES section).

Our practice is to make all comments, including names and home addresses of respondents, available for public review during regular business hours. Individual respondents may request that we withhold their home addresses from the record, which we will honor to the extent allowable by law. In some circumstances, we would withhold from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Author

The primary author of this notice is Daniel Welsh (Sacramento Fish and Wildlife Office; see ADDRESSES section).

Authority

The authority for this action is the Oil Pollution Act of 1990 (33 U.S.C. 2701 et seq.).

Dated: February 2, 2005.
D. Kenneth McDermond,
Deputy Manager, California/Nevada Operations Office, Sacramento, California.

[FR Doc. 05-5290 Filed 3-16-05; 8:45 am]

BILLING CODE 4310-55-P